DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Coastal Zone Management Program Administration Grants, Performance Reports, Amendments and Routine Program Changes, Section 306A and Section 309 Requirements, and Section 6217 Coastal Nonpoint Pollution Program.

OMB Control Number: 0648-0119.

Form Number(s): None.

Type of Request: Regular (revision and extension of a currently approved information collection).

Number of Respondents: 34.

Average Hours Per Response: Coastal Zone Management Performance Tracking, 25 hours; performance reports: Year 1, Sections A and B, 35 hours; Year 2, Section A, 10 hours; Year 3, Section A, 5 hours; Section C, 2 hours; amendments and program change documentation, 20 hours; Section 306a Application Checklist and documentation, 5 hours; Section 309 Strategy & Assessment Document Preparation, 260 hours; Section 309 Competitive Funding—Section A Semi-annual Performance Report on Project Implementation and Section 305 Section A Semi-Annual Performance Report, 2 hours each; Coastal Nonpoint Pollution Control Program Document Preparation and Section 305 Program Development Document, 1 hour each.

Burden Hours: 9,144.

Needs and Uses: This request is for revision and extension of a currently approved information collection.

In 1972, in response to intense pressure on United States (U.S) coastal resources, and because of the importance of U.S. coastal areas, the U.S. Congress passed the Coastal Zone Management Act of 1972 (CZMA), 16 U.S.C. 1451 et. seq. The CZMA authorized a federal program to encourage coastal states and territories to develop comprehensive coastal management programs. The CZMA has been reauthorized on several occasions, most recently with the enactment of the Coastal Zone Protection Act of 1996. (CZMA as amended). The program is administered by the Secretary of Commerce, who in turn has delegated this responsibility to the National Oceanic and Atmospheric Administration's (NOAA) National Ocean Services (NOS).

The coastal zone management grants provide funds to states and territories to: implement federally-approved coastal management programs; complete information for the Coastal Zone Management Program (CZMP) Performance Management System; develop program assessments multi-year strategies to enhance their programs within priority areas under Section 309 of the CZMA; submit documentation as described in the CZMA Section 306a on the approved coastal zone management programs; submit requests to update their federally-approved programs through amendments or program changes; and develop and submit state coastal nonpoint pollution control programs (CNP) as required under Section 6217 of the Coastal Zone Act Reauthorization Amendments.

Revision: The CZMP Performance Measurement System has been revised to reduce the number of measures on which state programs are required to report, resulting in an overall decrease in reporting burden for the performance measurement system. The assessment process under CZMA Section 309 has also been refined to rely more on readily available existing data and allow states to more quickly focus their assessments on high-priority enhancement areas.

Affected Public: State, local and tribal governments.

Frequency: Annually, semi-annually and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 18, 2015.
Sarah Brabson,
NOAA PRA Clearance Officer.

[FR Doc. 2015-29750 Filed 11-20-15; 8:45 am]

BILLING CODE 3510-08-P